DEPARTMENT OF HEALTH AND HUMAN SERVICES

Centers for Disease Control and Prevention

[60 Day-03-61]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant Reports Clearance Officer, 1600 Clifton Road, MS-D24, Atlanta, GA 30333. Written comments should be received within 60 days of this notice.

Proposed Project

Youths Evaluation of Anti-Tobacco Ads—New—National Center for Chronic Disease Prevention and Health Promotion (NCCDPHP), Centers for Disease Control and Prevention (CDC).

Background

In FY 2002, Congress mandated CDC, Office on Smoking and Health (OSH), to facilitate programs to prevent tobacco use among young people using counter-advertising targeted to young people. Demoralization and the reduction of tobacco use among youth and adolescents are the focus of six objectives in Healthy People 2010. There are no nationwide studies assessing the perceived effectiveness of multiple categories of anti-tobacco advertisements (only one nationwide study exists which only explores the effectiveness of one type of message). CDC is coordinating an effort to plan, implement, and evaluate a media literacy lesson plan designed to clearly communicate messages that will prevent tobacco use among young people. The lesson plan will be based on principles that have been shown to enhance success, including: showing messages based on research; testing messages with the intended audiences; involving young people in media literacy, providing salient reasons to not smoke; enlisting the involvement and support of teachers and other influencers; and tracking the lesson plan's effectiveness.

For tobacco control efforts to continue to be successful and to promote the use of CDC media resources for tobacco control (Media Campaign Resource Center), it is critical that we understand which ads are perceived as most effective with the target audience. CDC planners are seeking a vehicle to evaluate anti-tobacco ads that are used by state health departments. In order to maximize the CDC's Media Campaign Resource Center, it is important to determine which ads should be promoted to the state health departments for use with their constituents. This understanding will facilitate any strategic changes and or promotions that may be necessary to increase the Media Campaign Resource Center's effectiveness and sustainability. The data will provide state health departments, the government, health education and communication practitioners, and committees that make recommendations regarding which types of tobacco prevention advertisements may be perceived as most likely to reduce tobacco use among youth.

CDC proposes to use an evaluation tool with middle and high school students from schools across the United States. GIS mapping will inform the selection of approximately 200 public and private American schools. The data collection instrument is a paper and pencil computer scan sheet. Students will view 12 tobacco prevention advertisements and respond using a computer scan sheet. The survey will take 26 minutes to complete and will be delivered during school hours. CDC will support the cost for development, implementation, data collection, and analysis out of funds budgeted for these purposes. There is no cost to the respondents.

Respondents | Number of respondents | Number of responses per respondent | Average burden per response (in hours) | Total burden (in hours)
7th to 12th graders (ages 12-19) | 8000 | 1 | 30/60 | 4000
Total |  |  |  | 4000

Nancy E. Cheal,
Acting Director, Office of Program Planning and Evaluation, Centers for Disease Control Prevention.

[FR Doc. 03-9422 Filed 4-16-03; 8:45 am]

BILLING CODE 4163-18-P